DEPARTMENT OF ENERGY

Federal Energy Regulatory Commission

[Docket No. MG01-11-000]

Mojave Pipeline Company; Notice of Filing

November 16, 2000.

Take notice that on November 2, 2000, Mojave Pipeline Company filed revised standards of conduct under Order No. 559 ¹ and Order No. 637.²

¹ Reporting Interstate Natural Gas Pipeline Marketing Affiliates on the Internet, Order No. 599, 63 FR 43075 (August 12, 1998), FERC Stats. & Regs. 31,064 (1998).

² Regulation of Short-Term Natural Gas Transportation Services and Regulation of Interstate Natural Gas Transportation Services, 63 FR 10156 (February 25, 2000), FERC Statutes and Regulations 31,091 (February 9, 2000) (Order No. 637) and Order No. 637-A, FERC Statutes and Regulations 31,099 (May 19, 2000).

Any person desiring to be heard or to protest said filing should file a motion to intervene or protest in this proceeding with the Federal Energy Regulatory Commission, 888 First Street, NE., Washington, DC 20426, in accordance with Rules 211 and 214 of the Commission's Rules of Practice and Procedure (18 CFR 385.211 and 385.214 (2000)). All such motions to intervene or protest should be filed on or before December 1, 2000. Protests will be considered by the Commission in determining the appropriate action to be taken, but will not serve to make protestants parties to the proceedings. Any person wishing to become a party must file a motion to intervene. Copies of these filings are on file with the Commission and are available for public inspection. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29858 Filed 11-21-00; 8:45 am]

BILLING CODE 6717-01-M